DEPARTMENT OF EDUCATION

[Docket ID ED-2009-OII-0012]

RIN 1855-AA06

Investing in Innovation Fund; Correction

Catalog of Federal Domestic Assistance (CFDA) Numbers: 84.396A (Scale-up grants), 84.396B (Validation grants), and 84.396C (Development grants).

AGENCY: Office of Innovation and Improvement, Department of Education.

ACTION: Notice inviting applications for new awards for fiscal year (FY) 2010; correction.

SUMMARY: On March 12, 2010, the Department of Education published in the Federal Register (75 FR 12072) a notice inviting applications for new awards for FY 2010 (NIA) for the Investing in Innovation Fund. This notice makes a correction to the March 12 NIA.

FOR FURTHER INFORMATION CONTACT: Margo Anderson. Telephone: (202) 453-7122; or by e-mail: i3@ed.gov; or by mail: (Attention: Investing in Innovation), U.S. Department of Education, 400 Maryland Avenue, SW., room 4W302, Washington, DC 20202.

If you use a telecommunications device for the deaf (TDD), call the Federal Relay Service (FRS), toll free, at 1-800-877-8339.

Individuals with disabilities can obtain this document in an accessible format (e.g., braille, large print, audiotape, or computer diskette) on request to the contact listed in this section.

SUPPLEMENTARY INFORMATION:

Correction

On page 12073, we included a footnote providing the Department's interpretation of the core academic subject of science as including STEM education (science, technology, engineering, and mathematics) which encompasses a wide range of disciplines. As an example of those disciplines, we intended to include computer science rather than science. To correct this error, the Department makes the following correction to the March 12 NIA:

On page 12073, under the heading Absolute Priority 3—Innovations That Complement the Implementation of High Standards and High-Quality Assessments, in the third column, in footnote number one, in line six, “including science” is replaced with “including computer science.” Program Authority: Section 14007 of division A of the American Recovery and Reinvestment Act of 2009, Public Law 111-5, as amended by section 307 of division D of the Consolidated Appropriations Act, 2010, Public Law 111-117.

Electronic Access to This Document

You may view this document, as well as all other Department of Education documents published in the Federal Register, in text or Adobe Portable Document Format (PDF) on the Internet at the following site: http://www.ed.gov/news/fedregister/index.html. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 7, 2010.
James H. Shelton III,
Assistant Deputy Secretary For Innovation and Improvement.

[FR Doc. 2010-8304 Filed 4-9-10; 8:45 am]

BILLING CODE 4000-01-P